DEPARTMENT OF ENERGY

Environmental Management Advisory Board

AGENCY: Department of Energy.

ACTION: Notice of Solicitation of Nominations for Appointment as a member of the Environmental Management Advisory Board.

SUMMARY: In accordance with the Federal Advisory Committee Act (FACA), 5 U.S.C., App. 2, the U.S. Department of Energy is soliciting nominations for candidates to fill vacancies on the Environmental Management Advisory Board (EMAB).

DATES: The deadline for nominations for members will be accepted on or before April 20, 2012.

ADDRESSES: The nominations must include a resume, a short biography, and are to be submitted to the following address: Environmental Management Advisory Board (EM-42), U.S. Department of Energy, 1000 Independence Avenue SW., Washington, DC 20585 (for additional details, please see SUPPLEMENTARY INFORMATION).

FOR FURTHER INFORMATION CONTACT: Kristen Ellis, Designated Federal Officer, Environmental Management Advisory Board (EM-3.2), U.S. Department of Energy, 1000 Independence Avenue SW., Washington, DC 20585. Phone (202) 586-5810; fax (202) 586-0293 or email: kristen.ellis@em.doe.gov.

SUPPLEMENTARY INFORMATION: The EMAB provides advice and recommendations to the Assistant Secretary for the Office of Environmental Management on a broad range of programmatic issues, including but not limited to the following: Project management and oversight, cost/benefit analyses, program performance, human capital development, and contracts and acquisition strategies. The Board is comprised of up to 15 members who are appointed by the Secretary of Energy as special Government employees or as representatives of entities including, among others, research facilities, academic institutions, regulatory entities, and stakeholder organizations, should the Board's tasks require such representation.

EMAB meets the criteria for, and is subject to the Federal Advisory Committee Act (FACA). Members are selected in accordance with FACA requirements and serve on an uncompensated, volunteer basis. Members, however, may be reimbursed in accordance with the Federal Travel Regulations for authorized per diem and travel expenses incurred while attending Board meetings.

The Department of Energy's (DOE) Office of Environmental Management is accepting nominations through April 20, 2012, to fill vacancies on its Environmental Management Advisory Board (EMAB or Board). Applicants with expertise in project management, acquisition management, human capital management, environmental management and engineering, or other related fields are preferred. This expertise may be drawn from service in the private sector, academia, research institutions, professional organizations, or local and state governments. The Board requires a balanced membership so that a diversity of perspectives is represented on the issues that come before it. This membership balance is not static, however, and may change depending on the work of the committee.

Any interested person or organization may nominate qualified individuals for membership. Self-nominations are also welcome. Nominations must include a resume and short biography describing the educational and professional qualifications of the nominee and the nominee's current occupation, position, address and daytime telephone number. Nominations are open to all individuals without regard to race, color, religion, sex, national origin, age, mental or physical handicap, marital status, or sexual orientation. Please note, however, that Federally-registered lobbyists and individuals already serving on another Federal advisory committee are ineligible for nomination. All nominees will be vetted before selection.

Nominations can be sent by U.S. Mail or electronically to Ms. Kristen Ellis, Designated Federal Officer, at the address above. For further information on EMAB, please visit the Web site: www.em.doe.gov/emab or contact Ms. Ellis directly.

Issued at Washington, DC, on March 7, 2012.
LaTanya R. Butler,
Acting Deputy Committee Management Officer.

[FR Doc. 2012-6141 Filed 3-13-12; 8:45 am]

BILLING CODE 6450-01-P